FEDERAL RESERVE SYSTEM

Privacy Act of 1974; System of Records

AGENCY: Board of Governors of the Federal Reserve System.

ACTION: Notice of a modified system of records.

SUMMARY: Pursuant to the provisions of the Privacy Act of 1974, notice is given that the Board of Governors of the Federal Reserve System (Board) proposes to modify an existing system of records entitled, BGFRS-12 “FRB—Bank Officers Personnel System.” BGFRS-12 is a system of records that contains personal information about Federal Reserve Bank officers. It is used by the Human Resources Section within the Board's Division of Reserve Bank Operations and Payment Systems (RBOPS) to assist the Board in its oversight of the Federal Reserve Banks including reviewing Reserve Bank compliance with the Federal Reserve Administration Manual through on-site reviews and off-site monitoring.

DATES: Comments must be received on or before August 29, 2019. This modified system of records will become effective August 29, 2019, without further notice, unless comments dictate otherwise.

The Office of Management and Budget (OMB), which has oversight responsibility under the Privacy Act, requires a 30-day period prior to publication in the Federal Register in which to review the system and to provide any comments to the agency. The public is then given a 30-day period in which to comment, in accordance with 5 U.S.C. 552a(e)(4) and (11).

ADDRESSES: You may submit comments, identified by BGFRS-12: FRB-Bank Officers Personnel System, by any of the following methods:

• Agency Website: https://www.federalreserve.gov. Follow the instructions for submitting comments at https://www.federalreserve.gov/apps/foia/proposedregs.aspx.

• Email: regs.comments@federalreserve.gov. Include SORN name and number in the subject line of the message.

• Fax: (202) 452-3819 or (202) 452-3102.

• Mail: Ann E. Misback, Secretary, Board of Governors of the Federal Reserve System, 20th Street and Constitution Avenue NW, Washington, DC 20551.

All public comments will be made available on the Board's website at https://www.federalreserve.gov/apps/foia/proposedregs.aspx as submitted, unless modified for technical reasons, or to remove sensitive PII. Public comments may also be viewed electronically or in paper in Room 146, 1709 New York Avenue NW, Washington, DC 20006, between 9:00 a.m. and 5:00 p.m. on weekdays.

FOR FURTHER INFORMATION CONTACT: David B. Husband, Senior Attorney, (202) 530-6270, or david.b.husband@frb.gov; Legal Division, Board of Governors of the Federal Reserve System, 20th Street and Constitution Avenue NW, Washington, DC 20551.

SUPPLEMENTARY INFORMATION: The Board is modifying this system in order to reflect minor changes to the use of the system. Specifically, the Board is making changes to the types of information collected, adding more detail to the purpose of the system, changing the title for the System Manager, changing the system location, amending the specifics of the access controls, and making changes to the record retention policies and practices. The Board has also determined that the system-specific routine use providing that “the records may be used to provide reports, such as the Board's Annual Report to Congress, agencies and the public on characteristics regarding the Federal Reserve Bank officer work force” is no longer needed. The Board's practice is to release only aggregate, non-identifiable information through such reports. Accordingly, as the release of aggregate information is not a release of Privacy Act information because the information does not identify any individual, the Board proposes to delete the system-specific routine use.

The Board is also making technical changes to BGFRS-38 consistent with the template laid out in OMB Circular No. A-108. Accordingly, the Board has made technical corrections and non-substantive language revisions to the following categories: “Policies and Practices for Storage of Records,” “Policies and Practices for Retrieval of Records,” “Policies and Practices for Retention and Disposal of Records,” “Administrative, Technical and Physical Safeguards,” “Record Access Procedures,” “Contesting Record Procedures,” and “Notification Procedures.” The Board has also created the following new fields: “Security Classification” and “History.”

SYSTEM NAME AND NUMBER:

BGFRS-12 “FRB—Bank Officers Personnel System”

SECURITY CLASSIFICATION:

Unclassified.

SYSTEM LOCATION:

Federal Reserve Bank of Kansas City, 1 Memorial Drive, Kansas City, Missouri 64198.

SYSTEM MANAGER(S):

Lauren Guerin, Manager, Human Resources Section, Reserve Bank Operations and Payment Systems, Board of Governors of the Federal Reserve System, 20th Street and Constitution Avenue NW, Washington, DC 20551, 202-452-2540, or lauren.o.guerin@frb.gov.

AUTHORITY FOR MAINTENANCE OF THE SYSTEM:

Sections 4, 10, 11, and 21 of the Federal Reserve Act (12 U.S.C. 247, 248, 307, and 485).

PURPOSE(S) OF THE SYSTEM:

These records are collected and maintained to assist the Board in its oversight of the Federal Reserve Banks. The Board's use includes ensuring compliance with the Federal Reserve Administration Manual through on-site reviews and off-site monitoring.

CATEGORIES OF INDIVIDUALS COVERED BY THE SYSTEM:

Past and present Federal Reserve Bank Officers.

CATEGORIES OF RECORDS IN THE SYSTEM:

Personnel information such as demographic and employment information on past and present Reserve Bank officers (including the employees working at National IT and the Office of Employee Benefits), and any personnel actions regarding the officer that have occurred during the officer's employment.

RECORD SOURCE CATEGORIES:

The individual to whom the record pertains, Federal Reserve Bank staff, and System personnel systems all provide the information contained within this system of records.

ROUTINE USES OF RECORDS MAINTAINED IN THE SYSTEM, INCLUDING CATEGORIES OF USERS AND PURPOSES OF SUCH USES:

General routine uses, A, B, C, D, F, G, H, I, and J apply to this system. These general routine uses are located at https://www.federalreserve.gov/files/SORN-page-general-routine-uses-of-board-systems-of-records.pdf and are published in the Federal Register at 83 FR 43872 (August 28, 2018) at 43873-74.

POLICIES AND PRACTICES FOR STORAGE OF RECORDS:

Paper records in this system are stored in locked file cabinets with access limited to staff with a need to know. Electronic records are stored on a secure server with access limited to staff with a need to know.

POLICIES AND PRACTICES FOR RETRIEVAL OF RECORDS:

Staff can retrieve records by name or employee identification number.

POLICIES AND PRACTICES FOR RETENTION AND DISPOSAL OF RECORDS:

Records are retained for at least three years in accordance with applicable record retention schedules.

ADMINISTRATIVE, TECHNICAL, AND PHYSICAL SAFEGUARDS:

Access to records is limited to those whose official duties require it.

RECORD ACCESS PROCEDURES:

The Privacy Act allows individuals the right to access records maintained about them in a Board system of records. Your request for access must: (1) Contain a statement that the request is made pursuant to the Privacy Act of 1974; (2) provide either the name of the Board system of records expected to contain the record requested or a concise description of the system of records; (3) provide the information necessary to verify your identity; and (4) provide any other information that may assist in the rapid identification of the record you seek.

Current or former Board employees may make a request for access by contacting the Board office that maintains the record. The Board handles all Privacy Act requests as both a Privacy Act request and as a Freedom of Information Act request. The Board does not charge fees to a requestor seeking to access or amend his/her Privacy Act records.

You may submit your Privacy Act request to the—Secretary of the Board, Board of Governors of the Federal Reserve System, 20th Street and Constitution Avenue NW, Washington, DC 20551.

You may also submit your Privacy Act request electronically through the Board's FOIA “Electronic Request Form” located here: https://www.federalreserve.gov/secure/forms/efoiaform.aspx.

CONTESTING RECORD PROCEDURES:

The Privacy Act allows individuals to seek amendment of information that is erroneous, irrelevant, untimely, or incomplete and is maintained in a system of records that pertains to them. To request an amendment to your record, you should clearly mark the request as a “Privacy Act Amendment Request.” You have the burden of proof for demonstrating the appropriateness of the requested amendment and you must provide relevant and convincing evidence in support of your request.

Your request for amendment must: (1) Provide the name of the specific Board system of records containing the record you seek to amend; (2) identify the specific portion of the record you seek to amend; (3) describe the nature of and reasons for each requested amendment; (4) explain why you believe the record is not accurate, relevant, timely, or complete; and (5) unless you have already done so in a related Privacy Act request for access or amendment, provide the necessary information to verify your identity.

NOTIFICATION PROCEDURES:

Same as “Access procedures” above. You may also follow this procedure in order to request an accounting of previous disclosures of records pertaining to you as provided for by 5 U.S.C. 552a(c).

EXEMPTIONS PROMULGATED FOR THE SYSTEM:

No exemptions are claimed for this system.

HISTORY:

This system was previously published in the Federal Register at 73 FR 24984, at 24996 (May 6, 2008). The SORN was also amended to incorporate two new routine uses required by OMB at 83 FR 43872 (August 28, 2018).

Board of Governors of the Federal Reserve System, July 25, 2019.
Ann Misback,
Secretary of the Board.

[FR Doc. 2019-16153 Filed 7-29-19; 8:45 am]

BILLING CODE 6210-01-P